DEPARTMENT OF TRANSPORTATION

Federal Aviation Administration

Notice of Proposed Airport Access Restriction and Opportunity for Public Comment

AGENCY: Federal Aviation Administration (FAA), Department of Transportation (DOT).

ACTION: Notice; Request for Comment.

SUMMARY: The Airport Noise and Capacity Act of 1990 (hereinafter referred to as “the Act” or “ANCA”) provides notice, review, and approval requirements for airports seeking to impose noise or access restrictions on Stage 3 aircraft operations that become effective after October 1, 1990. 49 U.S.C. 47521 et seq. This notice is issued pursuant to ANCA and 14 CFR 161.315(b).

The Federal Aviation Administration (FAA) announces that it has determined the application for an airport noise and access restriction submitted by the Los Angeles World Airports (LAWA) for Los Angeles International Airport (LAX) under the provisions of 49 U.S.C. 47524 of the ANCA, and 14 CFR part 161, to be complete. The LAWA application seeks approval to adopt a new ordinance that would require all aircraft operators to comply with prevailing flows whenever LAX is in Over-Ocean or Westerly Operations from midnight to 6:30 a.m. The determination of completeness is not an approval or disapproval of the proposed airport access restriction. FAA will review the application, public comments, and any other information obtained under § 161.137(b) and issue a decision approving or disapproving the proposed restriction. FAA intends to issue its decision by November 8, 2014.

Public Comments: Interested parties are invited to file comments on the application. Comments are due 30 days after the publication of this notice in the Federal Register.

FOR FURTHER INFORMATION CONTACT: James Byers, Planning and Environmental Division, APP-400, 800 Independence Avenue SW., Washington DC 20591.

Email address: jim.byers@faa.gov. Comments on the application for the proposed noise and access restriction, including the environmental analysis, should be submitted in writing to this contact office.

SUPPLEMENTARY INFORMATION: On January 30, 2013 the Federal Aviation Administration (FAA) received an application from LAWA under 14 Code of Federal Regulations (CFR) Part 161 seeking a Stage 3 aircraft noise and access restriction at Los Angeles International Airport (LAX). The application was reviewed in accordance with 14 CFR 161.313(a), and was determined to be incomplete in the areas of Noise Exposure Maps (NEMs); Noise Study Area; Technical Data Supporting Noise Impact analysis; and Cost Benefit Analysis. Notice of this decision was sent to LAWA on March 1. On March 15, 2013, the FAA provided LAWA additional information regarding the type of information and analysis required to complete the application.

On March 28, 2013 LAWA stated its intent to revise the Part 161 application and resubmit it for further review. On July 5, 2013 FAA received a “Supplemental Analysis” from LAWA that supplemented their initial application. The FAA reviewed the Supplemental Analysis and determined it to be incomplete. Notice of this decision was sent to LAWA on August 2. The areas of Airport Noise Study Area and Noise Contours; Technical Data Supporting Noise Impact Analysis; and Cost—Benefit Analysis continued to be incomplete. On August 20, 2013 LAWA stated its intent to revise the Part 161 application and resubmit it to the FAA. On May 12, 2014, FAA received LAWA's revised application. On May 22, LAWA submitted an errata sheet. On June 10, 2014, FAA determined LAWA's application to be complete. ANCA establishes a 180 day review period for the application. Under 14 CFR 161.313(c)(4)(ii), the review period starts on the date of receipt of the last supplement to the application.

Pursuant to 14 CFR 161.317, FAA may approve or disapprove, in whole or in part, the proposed restriction or any alternative restriction submitted by LAWA. This notice also announces the availability of the proposed airport access restriction for public review and invites interested parties to file comments to the FAA within 30 days after this notice is published in the Federal Register.

FAA Action Under Part 161 Subpart D. FAA will review and render a decision on the restriction as a whole, including its impacts on aircraft operations that are not classified as Stage 3, at the time it issues its decision to approve or disapprove the application for a Stage 3 aircraft noise and access restriction submitted under Subpart D of Part 161. This review will include a determination on how the restriction proposal addresses other applicable Federal law and LAX's grant assurances.

The FAA's evaluation will be conducted under the provisions of 14 CFR Part 161. FAA may approve the restriction only if it finds on the basis of substantial evidence that the following six statutory criteria are met. These six statutory conditions of approval are: Condition 1: The restriction is reasonable, nonarbitrary, and nondiscriminatory; Condition 2: The restriction does not create an undue burden or interstate or foreign commerce; Condition 3: The proposed restriction maintains safe and efficient use of the navigable airspace; Condition 4: The proposed restriction does not conflict with any existing Federal statute or regulation; Condition 5: The applicant has provided adequate opportunity for public comment on the proposed restriction; and Condition 6: The proposed restriction does not create an undue burden on the national aviation system.

Interested persons are invited to file comments to the FAA on the proposed restriction application. LAWA's application is available on their Web site at: http://www.lawa.org/LAX Part161.aspx. Your comments should relate to the factors that Part 161 requires an airport sponsor to address in its application for restriction approval. All relevant comments received within the public comment period will be considered by FAA to the extent practicable before FAA makes its final decision on the application.

Questions may be directed to the individual named above under the heading, FOR FURTHER INFORMATION CONTACT.

Issued in Washington, DC on June 20, 2014.
Frank J. San Martin,
Acting Director, Office of Airport Planning and Programming.

[FR Doc. 2014-15150 Filed 6-26-14; 8:45 am]

BILLING CODE 4910-13-P